DEPARTMENT OF HOUSING AND URBAN DEVELOPMENT

[Docket No. FR-5370-N-01)]

The Performance Review Board

AGENCY: Office of the Deputy Secretary, HUD.

ACTION: Notice of Appointments.

SUMMARY: The Department of Housing and Urban Development announces the appointments of Ron Sims as Chairperson, Janie L. Payne as Vice Chairperson, and Jerry E. Williams, Carol J. Galante, and Deborah A. Hernandez as members of the Departmental Performance Review Board. The address is: Department of Housing and Urban Development, Washington, DC 20410-0050.

FOR FURTHER INFORMATION CONTACT: Persons desiring any further information about the Performance Review Board and its members may contact Earnestine Pruitt, Director, Executive Personnel Management Division, Department of Housing and Urban Development, Washington, DC 20410. Telephone (202) 708-1381. (This is not a toll-free number)

Dated: November 24, 2009.
Ron Sims,
Deputy Secretary.

[FR Doc. E9-28784 Filed 11-30-09; 8:45 am]

BILLING CODE P